DEPARTMENT OF ENERGY

Federal Energy Regulatory Commission

[Project No. 12632-001]

East Texas Electric Cooperative, Inc. (Cooperative); Notice Soliciting Comments and Final Recommendations, Terms and Conditions, and Prescriptions

May 27, 2010.

Take notice that the following hydroelectric application has been filed with the Commission and is available for public inspection.

a. Type of Application: Original Major License—Existing Dam.

b. Project No.: P-12632-001.

c. Date Filed: March 31, 2009.

d. Applicant: East Texas Electric Cooperative, Inc. (Cooperative).

e. Name of Project: Lake Livingston Hydroelectric Project.

f. Location: On the Trinity River, in San Jacinto, Polk, Trinity, and Walker Counties, Texas. The project would not occupy any Federal lands.

g. Filed Pursuant to: Federal Power Act 16 U.S.C. 791 (a)-825(r).

h. Applicant Contact: Edd Hargett, East Texas Electric Cooperative, Inc., 2905 Westward Drive, P.O. Box 631623, Nacogdoches, TX 75963; (936) 560-9532; eddh@gtpower.com.

i. FERC Contact: Sarah Florentino at (202) 502-6863, or sarah.florentino@ferc.gov.

j. Deadline for filing comments and recommendations, terms and conditions, and prescriptions is 60 days from the issuance of this notice; reply comments are due 105 days from the issuance date of this notice.

All documents may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The proposed project would use the following existing facilities: (1) The Trinity River Authority's (TRA) existing 14,400-foot-long (approximate) Lake Livingston dam, which has a crest elevation of 145.0 feet mean sea level (msl) and consists of (a) A basic earth embankment section, (b) outlet works, and (c) a spillway; and (2) the 83,000-acre Lake Livingston, which has a normal water surface elevation of 131.0 feet msl and gross storage capacity of 1,750,000 acre-feet.

In addition to the existing structures, the proposed project would consist of the following new facilities: (1) An intake structure and headrace channel approximately 300 feet long; (2) three steel penstocks, about 12 feet in diameter and 750 feet in length; (3) a powerhouse containing three generating units, having a total installed capacity of 24 MW; (4) an approximate 1,200-feet-long tailrace channel; (5) an approximate 2.8-mile-long, 138-kilovolt transmission line interconnecting the project with Entergy's existing Rich substation near Goodrich; and (6) an electric switchyard and other appurtenant facilities. The project would have an estimated annual generation of 124 gigawatt-hours, which the Cooperative would sell at wholesale to its constituent electric cooperatives.

m. A copy of the application is available for review at the Commission in the Public Reference Room or may be viewed on the Commission's Web site at http://www.ferc.gov, using the “eLibrary” link. Enter the docket number, excluding the last three digits, in the docket number field to access the document. For assistance, contact FERC Online Support. A copy is also available for inspection and reproduction at the address in item h above.

All filings must: (1) Bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via e-mail of new filings and issuances related to this or other pending projects. For assistance, contact FERC Online Support.

Kimberly D. Bose,
Secretary.

[FR Doc. 2010-13369 Filed 6-2-10; 8:45 am]

BILLING CODE 6717-01-P